DEPARTMENT OF HEALTH AND HUMAN SERVICES

Centers for Disease Control and Prevention

[Docket Number NIOSH-220]

Components for Evaluation of Direct-Reading Monitors for Gases and Vapors and Addendum

AGENCY: National Institute for Occupational Safety and Health (NIOSH) of the Centers for Disease Control and Prevention (CDC), Department of Health and Human Services (HHS).

ACTION: Notice of draft publication available for public comment.

SUMMARY: The National Institute for Occupational Safety and Health (NIOSH) of the Centers for Disease Control and Prevention (CDC) announces the availability of the following draft publication for public comment. The document and its addendum are entitled, respectively, “Components for Evaluation of Direct-Reading Monitors for Gases and Vapors” and “Addendum to Components for Evaluation of Direct-Reading Monitors for Gases and Vapors: Hazard Detection in First Responder Environments.” The draft documents and instructions for submitting comments can be found at: http://www.cdc.gov/niosh/docket/review/docket220. The document expands the 1995 method development and evaluation experimental testing methods to direct-reading monitors for gases and vapors. These Components are provided for laboratory users, consensus standard setting bodies, and manufacturers of direct-reading instrumentation and are compatible with the Instrumentation, Systems, and Automation Society guidelines. The addendum to the document expands the applicability of the Components by presenting methods to be used in evaluating direct-reading monitors for hazard detection in First Responder environments. The 1995 document, entitled “Guidelines for Air Sampling and Analytical Method Development and Evaluation,” can be viewed at: http://www.cdc.gov/niosh/docs/95-117/.

This guidance does not have the force and effect of the law.

DATES: Public Comment Period: Comments must be received by December 20, 2010.

ADDRESSES: Written comments may be submitted to the NIOSH Docket Office, identified by Docket Number NIOSH-220, by any of the following methods:

• Mail: NIOSH Docket Office, Robert A. Taft Laboratories, MS-C34, 4676 Columbia Parkway, Cincinnati, Ohio 45226.

• Facsimile: (513) 533-8285.

• E-mail: nioshdocket@cdc.gov.

All information received in response to this notice will be available for public examination and copying at the NIOSH Docket Office, 4676 Columbia Parkway, Room 111, Cincinnati, Ohio 45226. A complete electronic docket containing all comments submitted will be available on the NIOSH web page at http://www.cdc.gov/niosh/docket, and comments will be available in writing by request. NIOSH includes all comments received without change in the docket, including any personal information provided. All electronic comments should be formatted as Microsoft Word. Please make reference to Docket Number NIOSH-220.

FOR FURTHER INFORMATION CONTACT: Stanley A. Shulman, PhD., telephone (513) 841-4258, e-mail mailto: sas2@cdc.gov, or Amy Feng, M.S., telephone (513) 841-4128, e-mail haf0@cdc.gov, NIOSH, MS-R3, 4676 Columbia Parkway, Cincinnati, OH 45226.

John Howard,
Director, National Institute for Occupational Safety and Health, Centers for Disease Control and Prevention.

[FR Doc. 2010-26221 Filed 10-18-10; 8:45 am]

BILLING CODE 4163-18-P